DEPARTMENT OF COMMERCE

National Oceanic and Atmospheric Administration

RIN 0648-XO72

Marine Mammals; File No. 1000-1617

AGENCY: National Marine Fisheries Service (NMFS), National Oceanic and Atmospheric Administration (NOAA), Commerce.

ACTION: Notice; receipt of application for amendment.

SUMMARY: Notice is hereby given that Whitlow Au, University of Hawaii, Hawaii Institute of Marine Biology, Marine Mammal Research Program, PO Box 1106, Kailua, Hawaii 96734, has applied for an amendment to Scientific Research Permit No. 1000-1617-04.

DATES: Written, telefaxed, or e-mail comments must be received on or before May 18, 2009.

ADDRESSES: The application and related documents are available for review by selecting “Records Open for Public Comment” from the Features box on the Applications and Permits for Protected Species (APPS) home page, https://apps.nmfs.noaa.gov, and then selecting File No. 1000-1617 from the list of available applications.

These documents are also available upon written request or by appointment in the following office(s):

Permits, Conservation and Education Division, Office of Protected Resources, NMFS, 1315 East-West Highway, Room 13705, Silver Spring, MD 20910; phone (301)713-2289; fax (301)427-2521;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)944-2200; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1000-1617.

FOR FURTHER INFORMATION CONTACT: Kristy Beard or Carrie Hubard, (301)713-2289.

SUPPLEMENTARY INFORMATION: The subject amendment to Permit No. 1000-1617-04 is requested under the authority of the Marine Mammal Protection Act of 1972, as amended (16 U.S.C. 1361 et seq.) and the regulations governing the taking and importing of marine mammals (50 CFR part 216).

Permit No. 1000-1617 was issued on June 22, 2001 (66 FR 34155), and has since been amended four times. The permit currently authorizes behavioral observations, photo-identification, genetic sampling, and suction-cup tagging of cetaceans in Hawaii and California. The purpose of the small cetacean research is to investigate population structure, genetic variability, dispersal patterns, social structure, and foraging and diving behavior. Large whale research on humpback whales (Megaptera novaeangliae), killer whales (Orcinus orca), and Cuvier's and Blainville's beaked whales (Ziphius cavirostris and Mesoplodon densirostris) focuses on behavior and use of the acoustic environment. The permit holder is now requesting an increase in the number of suction cup tags to be deployed on nine non-ESA-listed species of small cetaceans, and to allow acoustic playbacks to 18 non-ESA-listed cetacean species around Hawaii. The purpose of increased suction cup tagging is to collect adequate data to address the research objectives; because the duration of tag attachment is highly variable, more tagging attempts are required to account for very short attachment times where behavior may be biased by reactions to the tagging. Requested increases are up to 200 tags on pantropical spotted dolphins (Stenella attenuata), 80 on spinner dolphins (S. longirostris), 60 on short-finned pilot whales (Globicephala macrorhynchus), 50 on melon-headed whales (Peponocephala electra), and 40 each on pygmy and false killer whales (Feresa attenuata and Pseudorca crassidens) and on striped (S. coeruleoalba), rough-toothed (Steno bredanensis), and bottlenose dolphins (Tursiops truncatus). The purpose of acoustic playbacks is to determine the effects of noise on the behavior of cetaceans around Hawaii, and to research low-level sounds that might elicit mild alert responses. A maximum of 3000 spinner dolphins, 300 each of pygmy and dwarf sperm whales (Kogia sima and K. breviceps), 600 each of other authorized species of small cetaceans, and 270 each of killer whales, Cuvier's and Blainville's beaked whales would be exposed to playbacks. The amendment would be valid until the permit expires on November 15, 2010.

Concurrent with the publication of this notice in the Federal Register, NMFS is forwarding copies of this application to the Marine Mammal Commission and its Committee of Scientific Advisors.

Dated: April 13, 2009.
P. Michael Payne,
Chief, Permits, Conservation and Education Division, Office of Protected Resources, National Marine Fisheries Service.

[FR Doc. E9-8763 Filed 4-15-09; 8:45 am]

BILLING CODE 3510-22-S